DEPARTMENT OF THE TREASURY

Office of Foreign Assets Control

Publication of General License Related to the Zimbabwe Sanctions Program

AGENCY: Office of Foreign Assets Control, Treasury.

ACTION: Notice, publication of general license.

SUMMARY: The U.S. Department of the Treasury's Office of Foreign Assets Control (“OFAC”) is publishing General License No. 1 issued under the Zimbabwe sanctions program on April 24, 2013. Zimbabwe General License No. 1 authorizes all transactions involving Agricultural Development Bank of Zimbabwe and Infrastructure Development Bank of Zimbabwe, subject to certain limitations.

DATES: Effective Date: April 24, 2013.

FOR FURTHER INFORMATION CONTACT: Assistant Director for Sanctions Compliance & Evaluation, tel.: 202-622-2490, Assistant Director for Licensing, tel.: 202-622-2480, Assistant Director for Policy, tel.: 202-622-4855, Office of Foreign Assets Control, or Chief Counsel (Foreign Assets Control), tel.: 202-622-2410, Office of the General Counsel, Department of the Treasury (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202-622-0077.

Background

On April 24, 2013, OFAC issued Zimbabwe General License No. 1 authorizing all transactions involving Agricultural Development Bank of Zimbabwe and Infrastructure Development Bank of Zimbabwe, subject to certain limitations.

At the time of its issuance on April 24, 2013, OFAC made Zimbabwe General License No. 1 available on the OFAC Web site (www.treasury.gov/ofac). With this notice, OFAC is publishing Zimbabwe General License No. 1 in the Federal Register.

Zimbabwe General License No. 1

General License with Respect to Agricultural Development Bank of Zimbabwe and Infrastructure Development Bank of Zimbabwe

(a) Effective April 24, 2013, all transactions involving Agricultural Development Bank of Zimbabwe and Infrastructure Development Bank of Zimbabwe are authorized, subject to the limitations set forth below.

(b) This general license does not authorize transactions involving any person whose property and interests in property are blocked pursuant to 31 CFR 541.201(a), Executive Order 13288 of March 6, 2003, Executive Order 13391 of November 22, 2005, or Executive Order 13469 of July 25, 2008, other than Agricultural Development Bank of Zimbabwe and Infrastructure Development Bank of Zimbabwe.

(c) All property and interests in property blocked pursuant to 31 CFR 541.201(a), Executive Order 13288 of March 6, 2003, Executive Order 13391 of November 22, 2005, or Executive Order 13469 of July 25, 2008, as of April 24, 2013, remain blocked.

Dated: June 26, 2013.
Adam J. Szubin,
Director, Office of Foreign Assets Control.

[FR Doc. 2013-16450 Filed 7-8-13; 8:45 am]

BILLING CODE 4810-AL-P